DEPARTMENT OF HEALTH AND HUMAN SERVICES

National Institutes of Health

National Cancer Institute; Notice of Meeting

Pursuant to section 1009 of the Federal Advisory Committee Act, as amended, notice is hereby given of a meeting of the Board of Scientific Counselors, National Cancer Institute.

The meeting will be open to the public as indicated below, with attendance limited to space available. Individuals who plan to attend and need special assistance, such as sign language interpretation or other reasonable accommodations, should notify the Contact Person listed below in advance of the meeting. The open session will be videocast and can be accessed from the NIH Videocast at the following link: http://videocast.nih.gov/.

The meeting will be closed to the public as indicated below in accordance with the provisions set forth in section 552b(c)(6), Title 5 U.S.C., as amended for the review, discussion, and evaluation of individual intramural programs and projects conducted by the National Cancer Institute, including consideration of personnel qualifications and performance, and the competence of individual investigators, the disclosure of which would constitute a clearly unwarranted invasion of personal privacy.

Name of Committee: Board of Scientific Counselors, National Cancer Institute.

Date: March 9-10, 2026.

Open: March 09, 2026, 10:00 a.m. to 10:30 a.m.

Agenda: Call to Order and the Opening Remarks.

Closed: March 09, 2026, 11:00 a.m. to 4:00 p.m. March 10, 2026, 10:10 a.m. to 3:00 p.m.

Agenda: Personnel qualifications and performance, and competence of individual investigators.

Address: National Institutes of Health, National Cancer Institute, 9609 Medical Center Drive, Rockville, MD 20850, Virtual Meeting.

Contact Person: Mehrdad M. Tondravi, Ph.D., Chief Institute Review Office, National Cancer Institute, National Institutes of Health, 9609 Medical Center Drive, Room 2W-464 MSC 9711, Rockville, MD 20852, 240-276-5664, tondravim@mail.nih.gov.

Information is also available on the Institute's/Center's home page: https://deainfo.nci.nih.gov/advisory/bsc/index.htm, where an agenda and any additional information for the meeting will be posted when available.

(Catalogue of Federal Domestic Assistance Program Nos. 93.396, Cancer Biology Research, National Institutes of Health, HHS)

Zieta M. Charles,
Program Analyst, Office of Federal Advisory Committee Policy.

[FR Doc. 2026-00821 Filed 1-15-26; 8:45 am]

BILLING CODE 4140-01-P